DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Steel Import License.

Form Number: ITA-4141P.

OMB Control Number: 0625-0245.

Type of Request: Regular submission.

Burden Hours: 100,000.

Number of Respondents: 3,500.

Average Hours per Response: 10 minutes.

Needs and Uses: In order to effectively monitor steel imports, the Department of Commerce must collect and provide timely aggregated summaries about these imports. The Steel Import License, proposed by the ITA/Import Administration, is the tool used to collect the necessary information. The Census Bureau currently collects steel import data and disseminates aggregate information, however, this process can take up to 90 days after importation of the product, giving interested parties and the public far less time to respond to injurious sales. The license process provides real-time information to the public which allows more time to address injurious sales.

Affected Public: Business and other for-profit organizations.

Frequency: On occasion.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285 or via the Internet at David_Rostker@omb.eop.gov.

Dated: June 24, 2008.
Gwellnar Banks,
Management Analyst, Office of the Chief Information Officer.

[FR Doc. E8-14593 Filed 6-26-08; 8:45 am]

BILLING CODE 3510-DS-P